DEPARTMENT OF VETERANS AFFAIRS

[OMB Control No. 2900-0620]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before February 14, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail to: denise.mclamb@mail.va.gov. Please refer to “OMB Control No. 2900-0620.”

SUPPLEMENTAL INFORMATION: Title: Payment or Reimbursement for Emergency Services for Nonservice-Connected Conditions in Non-VA Facilities.

OMB Control Number: 2900-0620.

Type of Review: Extension of a currently approved collection.

Abstract: VA has established provisions regarding payment of or reimbursement for reasonable value of non-VA emergency services provided for nonservice-connected conditions of certain veterans who have no medical insurance and no other recourse for payment. VA will make payment or reimbursement only for emergency services provided in a hospital emergency department or a similar facility held out as providing emergency care to the public. Health care providers furnishing emergency treatment who believe they may have a basis for filing a claim with VA for payment should contact VA within 48 hours after the veteran begins receiving emergency treatment for emergency services other than emergency transportation. Such contact is not a condition of VA payment. However, the contact will assist the provider in understanding the condition for payment and assist the provider in planning for transfer of the veteran after stabilization. VA would use the information and certifications submitted to process claims for such reimbursement or payment.

An agency may not conduct or sponsor, and a person is not required to respond to a collection of information unless it displays a currently valid OMB control number. The Federal Register Notice with a 60-day comment period soliciting comments on this collection of information was published on October 26, 2001, at pages 54340-54341.

Affected Public: Individuals or households, business or other for-profit and not-for-profit institutions.

Estimated Annual Burden: 120,729 hours.

Estimated Average Burden Per Respondent: 30 minutes.

Frequency of Response: On occasion.

Estimated Number of Respondents: 241,457.

Send comments and recommendations concerning any aspect of the information collection to VA's OMB Desk Officer, OMB Human Resources and Housing Branch, New Executive Office Building, Room 10235, Washington, DC 20503, (202) 395-7316. Please refer to “OMB Control No. 2900-0620” in any correspondence.

Dated: December 27, 2001.
By direction of the Secretary.
Mary Granito,
Management Analyst, Information Management Service.

[FR Doc. 02-990 Filed 1-14-02; 8:45 am]

BILLING CODE 8320-01-P